DEPARTMENT OF JUSTICE

Notice of Lodging of Proposed Consent Decree Under The Clean Air Act

On May 17, 2022, the Department of Justice lodged a proposed consent decree with the United States District Court for the Western District of Pennsylvania in the lawsuit entitled United States and Allegheny County Health Department v. United States Steel Corporation, Civil Action No. 2:22-cv-00729-CRE.

The United States and the Allegheny County Health Department jointly filed this lawsuit under the Clean Air Act against United States Steel Corporation, alleging violations at the Edgar Thomson steel mill in Allegheny County, Pennsylvania. The complaint seeks injunctive relief and civil penalties for exceedances of visible emissions opacity standards, as well as violations of requirements to minimize fugitive emissions, maintain and operate equipment to minimize emissions, and comply with the facility's operations and maintenance plan. The consent decree requires the defendant to perform injunctive relief to address the violations and pay a $1,500,000 civil penalty. The civil penalty will be split evenly between the United States and the Allegheny County Health Department, which will use its portion of the civil penalty to fund a multimodal trail connection for communities near the facility.

The publication of this notice opens a period for public comment on the consent decree. Comments should be addressed to the Assistant Attorney General, Environment and Natural Resources Division, and should refer to United States and Allegheny County Health Department v. United States Steel Corporation, D.J. Ref. No. 90-5-2-1-12083. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $38.50 (25 cents per page reproduction cost) payable to the United States Treasury.

Jeffrey Sands,
Assistant Section Chief, Environmental Enforcement Section, Environment and Natural Resources Division.

[FR Doc. 2022-11114 Filed 5-23-22; 8:45 am]

BILLING CODE 4410-15-P